DEPARTMENT OF AGRICULTURE

Submission for OMB Review; Comment Request

August 23, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@­OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Recognizing the Animal Disease Status of Regions in the European Union.

OMB Control Number: 0579-0218.

Summary of Collection: Regulations under which the Animal Plant and Health Inspection Service (APHIS) conducts disease prevention activities are contained in Title 9, Chapter 1, Subchapter D, Parts 91 through 99, of the Code of Federal Regulations. These regulations govern the importation of animals, birds, and poultry products, and animal germplasm. Under these regulations, certain regions of the European Union are allowed to import into the United States live breeding swine, pork, and pork products and swine semen. The specific regions are Greece, Austria, Belgium, France, Netherlands, Portugal, and Spain and designated sub-region in Germany and Italy. APHIS has determined that these items, imported from these specific regions in accordance with its other import requirements, will pose a low risk of introducing classical swine fever into the United States.

Need and Use of the Information: APHIS will collect information concerning the origin and history of the items destined for importation into the United States. APHIS will also collect information to ensure that swine, pork and pork products, and swine semen pose a negligible risk of introducing exotic swine diseases into the United States. If the information is not collected it would cripple APHIS ability to ensure that swine, pork and pork products, and swine semen pose a minimal risk of introducing classical swine fever and other exotic animal disease into the United States.

Description of Respondents: Business or other for profit; State, Local and Tribal Government.

Number of Respondents: 30.

Frequency of Responses: Reporting: On occasion.

Total Burden Hours: 300.

Ruth Brown,
Departmental Information Collection Clearance Officer.

[FR Doc. E6-14212 Filed 8-25-06; 8:45 am]

BILLING CODE 3410-34-P